INTERNATIONAL TRADE COMMISSION

[Investigation No. 332-526]

Business Jet Aircraft Industry: Structure and Factors Affecting Competitiveness; Institution of Investigation and Scheduling of Public Hearing

AGENCY: United States International Trade Commission.

ACTION: Notice.

SUMMARY: Following receipt of a request on May 23, 2011 from the United States House of Representatives Committee on Ways and Means (Committee) under section 332(g) of the Tariff Act of 1930 (19 U.S.C. 1332(g)), the United States International Trade Commission (Commission) instituted investigation No. 332-526, Business Jet Aircraft Industry: Structure and Factors Affecting Competitiveness.

DATES: August 19, 2011: Deadline for filing request to appear at the public hearing.

September 7, 2011: Deadline for filing pre-hearing briefs and statements.

September 28, 2011: Public hearing.

October 5, 2011: Deadline for filing post-hearing briefs and all other submissions.

April 23, 2012: Transmittal of Commission report to the House Committee on Ways and Means.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Peder Andersen (202-205-3388 or peder.andersen@usitc.gov) or Deborah McNay (202-205-3425 or deborah.mcnay@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested by the Committee, the Commission will conduct an investigation and prepare a report on the structure and factors affecting the competitiveness of the business jet aircraft industry in the United States, Brazil, Canada, Europe, and China. To the extent that information is publicly available, the report will include—

1. An overview of the structure of the global industry, including supply chain relationships and foreign direct investment;

2. An overview of the global market for business jet aircraft and recent developments, such as the economic downturn, that may have affected demand;

3. An examination of production, consumption, sales, financing mechanisms, research and development, and business innovation;

4. Information on government policies and programs that focus on or otherwise involve the industry, including policies and programs affecting financing, aircraft research and development, and certification; and

5. A discussion of factors that may affect the future competitiveness of the U.S. business jet aircraft industry, such as workforce characteristics, changes in regional demand, and new or growing entrants through 2028.

The Committee asked that the report focus primarily on the 2006-11 time period, and that the Commission deliver its report no later than April 23, 2012.

Public hearing: A public hearing in connection with this investigation will be held at the U.S. International Trade Commission Building, 500 E Street, SW., Washington, DC, beginning at 9:30 a.m. on Wednesday, September 28, 2011. Requests to appear at the public hearing should be filed with the Secretary, not later than 5:15 p.m., August 19, 2011, in accordance with the requirements in the “Submissions” section below. All pre-hearing briefs and statements should be filed not later than 5:15 p.m., September 7, 2011; and all post-hearing briefs and all other statements should be filed not later than 5:15 p.m., October 5, 2011. In the event that, as of the close of business on August 19, 2011, no witnesses are scheduled to appear at the hearing, the hearing will be canceled. Any person interested in attending the hearing as an observer or nonparticipant may call the Secretary to the Commission (202-205-2000) after August 19, 2011, for information concerning whether the hearing will be held.

Written submissions: In lieu of or in addition to participating in the hearing, interested parties are invited to submit written statements concerning this investigation. All written submissions should be addressed to the Secretary, and should be received not later than 5:15 p.m., October 5, 2011. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In its request letter, the Committee stated that it intends to make the Commission's report available to the public in its entirety, and asked that the Commission not include any confidential business information in the report that the Commission sends to the Committee. Any confidential business information received by the Commission in this investigation and used in preparing this report will not be published in a manner that would reveal the operations of the firm supplying the information.

Issued: June 15, 2011.
By order of the Commission.
James R. Holbein,
Secretary to the Commission.

[FR Doc. 2011-15248 Filed 6-17-11; 8:45 am]

BILLING CODE 7020-02-P